DEPARTMENT OF DEFENSE

Department of the Army

Proposed Mandatory Use of USBank's PowerTrack System by Department of Defense Personal Property Transportation Service Providers

AGENCY: Department of the Army, DOD.

ACTION: Notice.

SUMMARY: The Military Traffic Management Command (MTMC), as the Department of Defense (DOD) Traffic Manager for the Household Goods and Personal Property Program, proposes the mandatory use of USBank's PowerTrack System as the transaction and payment system for all DOD Transportation Service Providers (TSP), beginning with the implementation of Phase I of the Defense Future Personal Property Program, (Families First). Furthermore, the use of MTMC's Centralized Web Application (CWA) will also be mandatory. Implementation of PowerTrack at all Military Services and Coast Guard installations is the goal of Families First, which is the first stop in moving toward the reengineered Personal Property Program of the future.

This announcement is being made to afford TSPs ample time to comment and plan for potential future data feeds to PowerTrack. The Electronic Billing and Payment portion of the Families First Web site is located at http://www.mtmc.army.mil, under the Personal Property Program. The site offers industry access to updates on the Business Rules, Concept of Operations (CONOPS), and System Interface Specifications.

DATES: The initial rollout of PowerTrack and CWA is proposed to begin October 1, 2003. Comments must be submitted on or before 30 days from publication.

ADDRESSES: Comments may be sent by e-mail to: thomasg@mtmc.army.mil; or by courier to: Headquarters, Military Traffic Management Command, ATTN: MTPP-PD, Room 10N35-58 (George Thomas), Hoffman Building II, 200 Stovall Street, Alexandria, VA 22332-5000.

FOR FURTHER INFORMATION CONTACT: Mr. George Thomas at (703) 428-2237.

SUPPLEMENTARY INFORMATION: The initial rollout (see DATES) is proposed to serve as the Evaluation Period for the Phase I process, and involve a limited number of Personal Property Shipping Office's (PPSO) and TSP's. Expansion to the remaining PPSO's and TSP's is proposed to commerce on or about April 2004. It is important to note that not all PPSO's will be impacted during the Evaluation Period. For this reason, TSPs should file their rates for the Winter Cycle assuming that PowerTrack and CWA will not be used.

Transportation Providers wishing to transport personal property shipments for the DOD must have an agreement with USBank and be PowerTrack certified for the electronic payment of commercial transportation services. It is important that TPs begin the PowerTrack signup process by calling USBank at 1-800-417-1844. Additional information on PowerTrack is available at http://www.usbank.com/powertrack. Only those TPs that are PowerTrack certified will be eligible to receive personal property shipments.

I. Background

On 7 July 1997, the Under Secretary of Defense (Comptroller) issued a memorandum, which required the reengineering of defense transportation documentation and financial processes as part of an effort to revolutionize DOD business practices across all Military Services and Agencies. A major component of the reengineering effort is the implementation of USBank's PowerTrack System. Powertrack has been implemented for DOD freight shipments for all modes of transportation and now is under consideration for DOD personal property shipments. In June 2002, the USTRANSCOM Personal Property report was released, and USTRANSCOM directed that work begin on the future Personal Property program. USTRANSCOM tasked MTMC, in conjunction with the Military Services and Industry, to map our Families First by August 31, 2002. As a part of the Families First effort, DOD declared that PowerTrack would be utilized as the commercial business-to-business payment system.

To begin moving forward with Families First, MTMC developed a CONOPS outlining the implementation of Phase I. Key elements of Phase I CONOPS are electronic bill payment and the CWA. The CWA will be used for approval authorization and for costing shipments, based on the current Military Rate Tender.

II. Objective

The objective of Phase I is to implement the new electronic bill payment portion of Families First. The electronic bill payment processes for Phase I will:

• Use USBank's PowerTrack system to pay Transportation Service Providers;

• Use CWA as a tool to track and approve services performed by Transportation Service Providers; and,

• Provide information visibility for Stakeholders (Personal Property Shipping Offices, Military Services, General Service Administration, Transportation Service Providers, etc.).

Regulation Flexibility Act

This action is not considered rule making within the meaning of Regulatory Flexibility Act, 5 U.S.C. 601-612.

Paperwork Reduction Act

The Paperwork Reduction Act, 44 U.S.C. 3051 et seq., does not apply because no information collection or record keeping requirements are imposed on contractors, offerors or members of the public.

Thomas Hicks,
Chief, Personal Property Division.

[FR Doc. 03-14154 Filed 6-4-03; 8:45 am]

BILLING CODE 3710-08-M